DEPARTMENT OF ENERGY

Federal Energy Regulatory Commission

[Docket No. EC05-66-000, et al.]

Morgan Stanley Capital Group Inc., et al.; Electric Rate and Corporate Filings

April 11, 2005.

The following filings have been made with the Commission. The filings are listed in ascending order within each docket classification.

1. Morgan Stanley Capital Group Inc., South Eastern Electric Development Corporation, South Eastern Generating Corporation

[Docket No. EC05-66-000]

Take notice that on April 6, 2005, Morgan Stanley Capital Group Inc. (MSCG), South Eastern Electric Development Corporation (SEEDCO), and South Eastern Generating Corporation (SEGCO) (collectively, Applicants) submitted an application pursuant to section 203 of the Federal Power Act for authorization for MSCG's acquisition from a third-party of securities in each of SEEDCO and SEGCO. The Applicants have requested privileged treatment of certain information and documentation submitted with the application.

Comment Date: 5 p.m. eastern time on April 27, 2005.

2. Avista Energy, Inc.

[Docket No. ER96-2408-023]

Take notice that on April 4, 2005, Avista Energy, Inc., submitted proposed revisions to its First Revised Rate Schedule FERC No. 1 in compliance with the Commission's order issued March 3, 2005 in Docket No. ER99-1435-003, et al., 110 FERC ¶ 61,216 (2005).

Comment Date: 5 p.m. eastern time on April 25, 2005.

3. Spokane Energy, LLC

[Docket No. ER98-4336-012]

Take notice that on April 4, 2005, Spokane Energy, LLC submitted proposed revisions to its First Revised Rate Schedule FERC No. 1 in compliance with the Commission's order issued March 3, 2005 in Docket No. ER99-1435-003, et al., 110 FERC ¶ 61,216 (2005).

Comment Date: 5 p.m. eastern time on April 25, 2005.

4. Avista Corporation

[Docket No. ER99-1435-011]

Take notice that on April 4, 2005, Avista Corporation submitted proposed revisions to its FERC Electric Tariff Fifth Revised Volume No. 9 in compliance with the Commission's order issued March 3, 2005 in Docket No. ER99-1435-003, et al., 110 FERC ¶ 61,216 (2005).

Comment Date: 5 p.m. eastern time on April 25, 2005.

5. Avista Turbine Power, Inc.

[Docket No. ER00-1814-006]

Take notice that on April 4, 2005, Avista Turbine Power, Inc. submitted proposed revisions to its First Revised Rate Schedule No. 1 in compliance with the Commission's order issued March 3, 2005 in Docket No. ER99-1435-003, et al., 110 FERC ¶ 61,216 (2005).

Comment Date: 5 p.m. eastern time on April 25, 2005.

6. PJM Interconnection, L.L.C.; Virginia Electric and Power Company

[Docket No. ER04-829-005]

Take notice that on April 4, 2005, Virginia Electric and Power Company tender for filing changes to the PJM South Transmission Owner Agreement in compliance with the Commission's order issued March 4, 2005, 110 FERC ¶ 61,234 (2005).

Comment Date: 5 p.m. eastern time on April 25, 2005.

7. Midwest Independent Transmission System Operator, Inc.

[Docket No. ER05-215-002]

Take notice that on April 4, 2005, the Midwest Independent Transmission System Operator, Inc. (Midwest ISO) submitted an unexecuted Interconnection Agreement between the Midwest ISO, Prairie State Generation Company, LLC and Illinois Power Company.

The Midwest ISO states that the filing was served on the parties to the Interconnection Agreement.

Comment Date: 5 p.m. eastern time on April 25, 2005.

8. Arroyo Energy LP; Mohawk River Funding IV, L.L.C.; Utility Contract Funding, L.L.C.; Thermo Cogeneration Partnership, L.P.; Cedar Brakes I, L.L.C.; Cedar Brakes II, L.L.C.

[Docket Nos. ER05-375-001, ER02-1582-002, ER02-2102-003, ER02-1785-002, ER00-2885-004, ER01-2765-003]

Take notice that on April 4, 2005, Arroyo Energy LP, Mohawk River Funding IV, L.L.C., Utility Contract Funding, L.L.C., Thermo Cogeneration Partnership, L.P., Cedar Brakes I, L.L.C. and Cedar Brakes II, L.L.C. (collectively, the Filing Entities) filed a Notification of Change of Status notifying the Commission that each of the Filing Entities had become affiliated with, or that there were applications pending that would result in them being affiliated with, entities that sell energy an/or capacity in wholesale electricity markets.

The Filing Entities state that copies of the filing were served on the parties on the official service list in these proceedings.

Comment Date: 5 p.m. eastern time on April 25, 2005.

9. El Paso Electric Company

[Docket No. ER05-427-001]

Take notice that on April 4, 2005, El Paso Electric Company (EPE) submitted a compliance filing pursuant to the Commission's letter order issued March 4, 2005 in Docket No. ER05-427-000.

Comment Date: 5 p.m. eastern time on April 25, 2005.

10. Niagara Mohawk Power Corporation

[Docket No. ER05-775-000]

Take notice that on April 4, 2005, Niagara Mohawk Power Corporation, a National Grid company (Niagara Mohawk), submitted Notices of Cancellation for the following service agreements under Niagara Mohawk's FERC Electric Tariff, Volume No. 3: Service Agreement Nos. 1 through 28 (inclusive), 30, 31, 32, 34, 35, 37, 38, 39, 59, 64, 65, 72, 78, 79, 80, 86, 90, 96, 101, 124, 125, 126, 128, 131, 134, 143, 145, 148, 150, 152, 162, 163, 167, 173, 182, 184, 188, 190, 194, 201, 206, 212, and 222. Niagara Mohawk states that these service agreements should be cancelled because they have terminated by their own terms and the parties to the agreements no longer take service from Niagara Mohawk.

Niagara Mohawk states that a copy of this filing has been served upon the parties to the various agreements, New York Independent System Operator, and the New York State utility commission.

Comment Date: 5 p.m. eastern time on April 25, 2005.

11. Florida Keys Electric Cooperative Association, Inc.

[Docket No. ER05-776-000]

Take notice that on April 4, 2005, Florida Keys Electric Cooperative Association, Inc. (FKEC) tendered for filing a revised rate for non-firm transmission service provided to Keys Energy Services, Key West, Florida (KES) in accordance with the terms and conditions of the Long-Term Joint Investment Transmission Agreement between KFEC and KES.

FKEC states that the filing has been served on KES and the Florida Public Service Commission.

Comment Date: 5 p.m. eastern time on April 25, 2005.

12. Puget Sound Energy, Inc.

[Docket No. ER05-778-000]

Take notice that on April 4, 2005, Puget Sound Energy, Inc. (PSE) tendered for filing a Non-Standard Provisions Agreement under the Western System Power Pool Agreement between PSE and Calpine Energy Management, L.P. (CEM). PSE requests an effective date of June 6, 2005.

PSE states that the filing was served on CEM.

Comment Date: 5 p.m. eastern time on April 25, 2005.

13. UAE Mecklenburg Cogeneration LP

[Docket No. ER05-779-000]

Take notice that on April 4, 2005, Virginia Electric and Power Company tender for filing a Notice of Cancellation of the market-based rate tariff of UAE Mecklenburg Cogeneration LP. Virginia Electric and Power Company requests an effective date of August 19, 2004.

Comment Date: 5 p.m. eastern time on April 25, 2005.

14. James H. Hance, Jr.

[Docket No. ID-4237-000]

Take notice that on April 4, 2005, James H. Hance, Jr., filed an application for authorization under section 305(b) of the Federal Power Act to hold interlocking positions in Duke Energy Corporation and Sprint Corporation.

Comment Date: 5 p.m. eastern time on April 25, 2005.

Standard Paragraph

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all parties to this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Linda Mitry,
Deputy Secretary.

[FR Doc. E5-1806 Filed 4-15-05; 8:45 am]

BILLING CODE 6717-01-P